DEPARTMENT OF ENERGY

Federal Energy Regulatory Commission

[Docket No. OR02-1-000]

Plantation Pipe Line Company; Notice of Petition for Declaratory Order

November 7, 2001.

Take notice that on November 2, 2001, Plantation Pipe Line Company (Plantation), filed in Docket No. OR02-1-000, a petition pursuant to Section 207 of the Commission's Rules of Practice and Procedure (18 CFR 385.207) for a declaratory order, as more fully set forth in the application on file with the Commission and open to public inspection. This filing may be viewed on the web at www.ferc.fed us/online/rims.htm (call 202-208-2222 for assistance).

Plantation states that it proposes to abandon its 8-inch pipeline facilities serving the Chattanooga and Knoxville, Tennessee markets, and to serve those markets via a new 16-inch pipeline from Bremen, Georgia. The new pipeline would be owned by an affiliate. Plantation requests that the Commission find that the abandonment of the current facilities and service would not be subject to Commission jurisdiction, that certain proposed joint rates would be lawful, and that the proposed abandonment and rate arrangements would not affect the grandfathered status under the Energy Policy Act of 1992, of Plantation's existing mainline rates that apply to Bremen, Georgia.

Any person desiring to be heard or to protest said filing should file a motion to intervene or a protest with the Federal Energy Regulatory Commission, 888 First Street, NE., Washington, DC 20426, in accordance with sections 385.214 or 385.211 of the Commission's Rules and Regulations. All such motions or protests must be filed on or before December 3, 2001. Protests will be considered by the Commission in determining the appropriate action to be taken, but will not serve to make protestants parties to the proceedings. Any person wishing to become a party to a proceeding or to participate as a party in any hearing therein must file a motion to intervene in accordance with the Commission's Rules. Copies of this filing are on file with the Commission and are available for public inspection. This filing may also be viewed on the web at http://www.ferc.gov using the “RIMS” link, select “Docket#” and follow the instructions(call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-28468 Filed 11-13-01; 8:45 am]

BILLING CODE 6717-01-P